DEPARTMENT OF HOMELAND SECURITY

U.S. Customs and Border Protection

[Docket No. USCBP-2006-0037]

Expansion of Global Entry Pilot Program

AGENCY: U.S. Customs and Border Protection; DHS.

ACTION: General notice.

SUMMARY: U.S. Customs and Border Protection (CBP) is currently conducting an international trusted traveler pilot program, referred to as Global Entry, at seven airports. This document announces the expansion of the pilot to include thirteen additional airports.

DATES: The exact starting date for each airport location will be announced on the Web site at http://www.globalentry.gov.

ADDRESSES: You may submit comments, identified by “USCBP-2006-0037,” by one of the following methods:

• Federal eRulemaking Portal: http://www.regulations.gov. Follow the instructions for submitting comments.

• Mail: Border Security Regulations Branch, Regulations and Rulings, Office of International Trade, U.S. Customs and Border Protection, Mint Annex, 799 9th Street, NW., Washington, DC 20229.

Instructions: All submissions received must include the agency name, document title, and docket number (USCBP-2006-0037) for this notice. All comments received will be posted without change to http://www.regulations.gov, including any personal information provided.

Docket: For access to the docket to read background documents or comments received go to http://www.regulations.gov. Submitted comments may also be inspected during regular business days between the hours of 9 a.m. and 4:30 p.m. at the Office of Regulations and Rulings, Office of International Trade, U.S. Customs and Border Protection, 799 9th Street, NW., 5th Floor, Washington, DC. Arrangements to inspect submitted comments should be made in advance by calling Mr. Joseph Clark at (202) 325-0118.

Applications for the Global Entry pilot are available through the Global On-Line Enrollment System (GOES) at http://www.globalentry.gov. Applications must be completed and submitted electronically.

FOR FURTHER INFORMATION CONTACT: Fiorella Michelucci, Office of Field Operations, (202) 344-2564, or Daniel Tanciar, Office of Field Operations, (202) 344-2818 (not toll-free numbers).

SUPPLEMENTARY INFORMATION:

Background

CBP is currently conducting a pilot program called Global Entry, which began on June 6, 2008. This pilot was announced in a notice published in the Federal Register (73 FR 19861) on April 11, 2008.

The Global Entry pilot program allows for the expedited clearance of pre-approved, low-risk travelers into the United States. The initial Federal Register notice published on April 11, 2008 contained a detailed description of the program, the eligibility criteria and the application and selection process, and the initial airport locations: John F. Kennedy International Airport, Jamaica, New York, Terminal 4 (JFK); the George Bush Intercontinental Airport, Houston, Texas (IAH); and the Washington Dulles International Airport, Sterling, Virginia (IAD). CBP chose these initial airports due to the large numbers of travelers that arrive at those locations from outside the United States.

On August 13, 2008, in a notice published in the Federal Register (73 FR 47204), CBP announced that the pilot was being expanded to include all terminals at JFK and four additional airports: Los Angeles International Airport, Los Angeles, California (LAX); Hartsfield-Jackson Atlanta International Airport, Atlanta, Georgia (ATL); Chicago O'Hare International Airport, Chicago, Illinois (ORD); and Miami International Airport, Miami, Florida (MIA).

Initially, only U.S. citizens, U.S. nationals, and U.S. Lawful Permanent Residents (LPRs) were eligible to participate in the Global Entry pilot. However, as explained in the April 11, 2008 Federal Register notice, CBP has been working with other countries to recognize comparable programs operated by these countries and, as these arrangements are finalized, CBP will expand its eligibility criteria. The April 11 notice stated that such expansions of the pilot would be announced by publication in the Federal Register. On April 23, 2009, CBP published a notice in the Federal Register (74 FR 18586) that expanded eligibility for participation in the Global Entry pilot to include citizens of the Netherlands who participate in Privium, an expedited travel program in the Netherlands, provided they otherwise satisfy the requirements for participation in the Global Entry pilot program. Pursuant to the reciprocal arrangement with the Government of the Netherlands, these applicants are eligible for participation in the Global Entry pilot upon successful completion of a thorough risk assessment by both CBP and the Government of the Netherlands. Pursuant to the reciprocal arrangement, U.S. citizens who participate in the Global Entry pilot will have the option to apply for participation in Privium. For a more detailed discussion about the expansion of applicant eligibility to include citizens of the Netherlands, please refer to the April 23, 2009 Federal Register notice.

Operations

The Global Entry pilot project offers pilot participants expedited entry into the United States at any of the designated airport locations by using automated kiosks located in the Federal Inspection Services (FIS) area of each airport. Global Entry uses fingerprint biometrics technology to verify a participant's identity and confirm his or her status as a participant.

After arriving at the FIS area, participants proceed directly to the Global Entry kiosk. A sticker affixed to the participant's passport at the time of acceptance in Global Entry will provide visual identification that the individual can be referred to the kiosk. Global Entry participants need not wait in the regular passport control primary inspection lines.

After arriving at the kiosk, participants activate the system by inserting into the document reader either a machine-readable passport or a machine-readable U.S. permanent resident card. On-screen instructions guide participants to provide fingerprints electronically. These fingerprints are compared with the fingerprint biometrics on file to validate identity and confirm that the individual is a member of the program. Participants are also prompted to look at the camera for a digital photograph.

When the procedures at the kiosk have been successfully completed, which also involves responding to several customs declaration questions by use of a touch-screen, participants are issued a transaction receipt. This receipt must be provided along with the passport or LPR card to the CBP Officer at the exit control area who will examine and inspect these documents. CBP Officers stationed in booths next to the kiosk lanes also oversee activities at the kiosk.

Declarations

When using the Global Entry kiosks, Global Entry participants are required to use the kiosk to declare all articles being brought into the U.S. pursuant to 19 CFR 148.11.

If a Global Entry participant declares any of the following, the kiosk redirects that user to the head of the line at the nearest, open passport control, primary inspection station:

(a) Commercial merchandise or commercial samples, or items that exceed the applicable personal exemption amount;

(b) More than $10,000 in currency or other monetary instruments (checks, money orders, etc.), or foreign equivalent in any form; or

(c) Restricted/prohibited goods, such as agricultural products, firearms, mace, pepper spray, endangered animals, birds, narcotics, fireworks, Cuban goods, and plants.

Global Entry participants may also be subject to further examination and inspection as determined by CBP Officers at any time during the arrival process.

For a more detailed description of the Global Entry pilot program, please refer to the April 11, 2008 Federal Register notice, 73 FR 19861.

Expansion to Additional Airports

This notice announces that the pilot will be expanded to include thirteen additional airports. As with the choice of initial airports, CBP is expanding the Global Entry pilot to include those airports that service the largest numbers of travelers arriving from outside the United States.

New Airports and Dates of Operation

CBP will expand the Global Entry pilot to the following airports: Newark Liberty International Airport, Newark, New Jersey (EWR); San Francisco International Airport, San Francisco, California (SFO); Orlando International Airport, Orlando, Florida (ORD); Detroit Metropolitan Wayne County Airport, Romulus, Michigan (DET); Dallas Fort Worth International Airport, Dallas, Texas (DFW); Honolulu International Airport, Honolulu, Hawaii (HNL); Boston—Logan International Airport, Boston, Massachusetts (BOS); Las Vegas—McCarran International Airport, Las Vegas, Nevada (LAS); Sanford—Orlando International Airport, Sanford, Florida (SSB); Seattle—Tacoma International Airport-SEATAC, Seattle, Washington (STT); Philadelphia International Airport, Philadelphia, Pennsylvania (PHL); San Juan—Luis Munos Marin International Airport, San Juan, Puerto Rico (SAJ) and Ft. Lauderdale Hollywood International Airport, Fort Lauderdale, Florida (FLL). The exact dates of the expansion of the Global Entry pilot to the individual airports will be announced at http://www.globalentry.gov.

All other aspects of the program as described in the previous notices are still in effect.

Dated: August 4, 2009.
Thomas S. Winkowski,
Assistant Commissioner, Office of Field Operations.

[FR Doc. E9-19038 Filed 8-7-09; 8:45 am]

BILLING CODE 9111-14-P